DEPARTMENT OF AGRICULTURE

Submission for OMB Review; Comment Request

December 18, 2018.

The Department of Agriculture will submit the following information collection requirement(s) to OMB for review and clearance under the Paperwork Reduction Act of 1995, Public Law 104-13 on or after the date of publication of this notice. Comments are requested regarding: (1) Whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology should be addressed to: Desk Officer for Agriculture, Office of Information and Regulatory Affairs, Office of Management and Budget (OMB), New Executive Office Building, Washington, DC; New Executive Office Building, 725 17th Street NW, Washington, DC 20503. Commenters are encouraged to submit their comments to OMB via email to: OIRA_Submission@omb.eop.gov or fax (202) 395-5806 and to Departmental Clearance Office, USDA, OCIO, Mail Stop 7602, Washington, DC 20250-7602.

Comments regarding these information collections are best assured of having their full effect if received by January 22, 2019. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Agricultural Marketing Service

Title: Federal Marketing Order for Almonds.

OMB Control Number: 0581-New.

Summary of Collection: Marketing Order No. 981 (7 CFR part 81) regulates the handling of almonds grown in California. Enabling legislation is contained in the Agricultural Marketing Agreement Act of 1937, as amended (7 U.S.C. 601 et seq.; Act). The Act authorizes the promulgation and amendment of marketing orders for certain agricultural commodities and the issuance of regulations thereof for providing orderly marketing conditions in interstate and intrastate commerce and for improving returns to producers. The Act provides in section 608(d)(1) that information necessary to determine the extent to which a marketing order has effectuated the declared policy of the Act shall be furnished at the request of the Secretary of Agriculture. The rules of practice and the procedure governing proceedings to formulate marketing orders are contained in 7 CFR part 900.

Need and Use of the Information: The Board is made up of grower and handler members and alternates who are nominated by their industry peers and appointed by the U.S. Department of Agriculture (USDA) for specified terms of office. Board staff use the four ballot forms and one grower petition when conducting the nomination process. These new forms require a minimum of information necessary to effectively carry out the requirements of the marketing order, and their use is necessary to fulfill the intent of the Act as expressed in the marketing order.

Description of Respondents: Individuals or households.

Number of Respondents: 677.

Frequency of Responses: Reporting: On occasion; Other (when forms are requested).

Total Burden Hours: 57.

Kimble Brown,
Departmental Information Collection Clearance Officer.

[FR Doc. 2018-27754 Filed 12-20-18; 8:45 am]

BILLING CODE 3410-02-P